DEPARTMENT OF LABOR

Employment and Training Administration

[TA-W-36,960 et al.]

CNG Transmission Corp. Clarksburg, West Virginia, et al.; Dismissal of Application for Reconsideration

Pursuant to 29 CFR 90.18(C) an application for administrative reconsideration was filed with the Director of the Division of Trade Adjustment Assistance for workers at CNG Transmission Corp., Clarksburg, West Virginia, Hope Gas, Inc., Clarksburg, West Virginia, East Ohio Gas, Cleveland, Ohio, Virginia Natural Gas, Norfolk, Virginia, CNG Producing Co., New Orleans, Louisiana, Peoples Natural Gas Co., Pittsburgh, Pennsylvania, CNG Cooperate, Pittsburgh, Pennsylvania. The application contained no new substantial information which would bear importantly on the Department's determination. Therefore, dismissal of the application was issued.

TA-W-36,960; CNG Transmission Corp., Clarksburg, West Virginia

TA-W-36,960A; Hope Gas, Inc., Clarksburg, West Virginia

TA-W-36,960B; East Ohio Gas, Cleveland, Ohio

TA-W-36,960C; Virginia Natural Gas, Norfolk, Virginia

TA-W-36,960D; CNG Producing Co., New Orleans, Louisiana

TA-W-36,960E; Peoples Natural Gas Co., Pittsburgh, Pennsylvania

TA-W-36,960F; CNG Corporate, Pittsburgh, Pennsylvania (May 18, 2000)

Signed at Washington, DC this 18th day of May, 2000.
Grant D. Beale,
Program Manager, Division of Trade Adjustment Assistance.

[FR Doc. 00-13475 Filed 5-30-00; 8:45 am]

BILLING CODE 4510-30-M